NUCLEAR REGULATORY COMMISSION

[Docket No.: 70-143; NRC-2008-0487]

Notice of Issuance of License Amendment to Nuclear Fuel Services, Inc., Erwin, TN

AGENCY: U.S. Nuclear Regulatory Commission.

ACTION: Notice of issuance of license amendment.

FOR FURTHER INFORMATION CONTACT: Kevin M. Ramsey, Project Manager, Fuel Manufacturing Branch, Division of Fuel Cycle Safety and Safeguards, Office of Nuclear Material Safety and Safeguards, U.S. Nuclear Regulatory Commission (NRC), Mailstop E2C40M, Rockville, Maryland, 20852. Telephone: (301) 492-3123; fax number: (301) 492-3359; e-mail: kevin.ramsey@nrc.gov.

SUPPLEMENTARY INFORMATION:

I. Introduction

Pursuant to Title 10 of the Code of Federal Regulations (10 CFR) 2.106, the U.S. Nuclear Regulatory Commission (NRC) is providing notice of the issuance of License Amendment 88 to Material License No. SNM-124, to Nuclear Fuel Services, Inc. (the licensee), which authorizes the licensee to process uranium fluoride compounds in the new Commercial Development line of the licensee's facility in Erwin, Tennessee. The licensee's request for the proposed license amendment was previously noticed in the Federal Register on December 31, 2007 (72 FR 74352), with a notice of an opportunity to request a hearing. In accordance with 10 CFR part 51, an environmental assessment of this action was completed and a finding of no significant impact was published in the Federal Register on September 2, 2008 (73 FR 51319).

This license amendment complies with the standards and requirements of the Atomic Energy Act of 1954, as amended, and the NRC's rules and regulations as set forth in 10 CFR Chapter 1. Accordingly, this license amendment was issued on May 11, 2009, and is effective immediately.

II. Further Information

The NRC has prepared a Safety Evaluation Report (SER) that documents the information that was reviewed and the NRC's conclusion. In accordance with 10 CFR 2.390 of the NRC's “Rules of Practice,” details with respect to this action, including the SER and accompanying documentation included in the license amendment package, are available electronically at the NRC's Electronic Reading Room at http://www.nrc.gov/reading-rm/adams.html. From this site, you can access the NRC's Agencywide Document Access and Management System (ADAMS), which provides text and image files of the NRC's public documents. The ADAMS accession numbers for documents related to this notice are ML090490686 (letter and SER) and ML090490688 (non-sensitive license conditions). If you do not have access to ADAMS or if there are problems in accessing the documents located in ADAMS, contact the NRC Public Document Room (PDR) Reference staff at 1-800-397-4209, 301-415-4737 or by e-mail to pdr@nrc.gov.

These documents may also be viewed electronically on the public computers located at the NRC's PDR, O-1F21, One White Flint North, 11555 Rockville Pike, Rockville, MD 20852. The PDR reproduction contractor will copy documents for a fee.

Dated at Rockville, Maryland, this 27th day of May, 2009.
For the U.S. Nuclear Regulatory Commission.
Kevin M. Ramsey,
Project Manager, Fuel Manufacturing Branch, Division of Fuel Cycle Safety and Safeguards, Office of Nuclear Material Safety and Safeguards.

[FR Doc. E9-13024 Filed 6-3-09; 8:45 am]

BILLING CODE 7590-01-P